DEPARTMENT OF TRANSPORTION

Surface Transportation Board

[STB Docket No. EP 670 (Sub-No. 2)]

Notice of Rail Energy Transportation Advisory Committee Vacancy

AGENCY: Surface Transportation Board, DOT.

ACTION: Notice of vacancy on Federal advisory committee and solicitation of nominations.

SUMMARY: The Surface Transportation Board (Board), hereby gives notice of a vacancy on the Board's Rail Energy Transportation Advisory Committee for a representative of a state- or municipally-owned electric utility. The Board is soliciting suggestions for candidates to fill that vacancy.

DATES: Suggestions of candidates for membership on RETAC are due December 21, 2011.

ADDRESSES: Suggestions may be submitted either via the Board's e-filing format or in the traditional paper format. Any person using e-filing should attach a document and otherwise comply with the instructions at the E-FILING link on the Board's Web site, at http://www.stb.dot.gov. Any person submitting a filing in the traditional paper format should send an original and 10 copies to: Surface Transportation Board, Attn: STB Docket No. EP 670 (Sub-No. 2), 395 E Street SW., Washington, DC 20423-0001.

FOR FURTHER INFORMATION CONTACT: Scott M. Zimmerman at (202) 245-0386. [Assistance for the hearing impaired is available through the Federal Information Relay Service (FIRS) at 1-(800) 877-8339.]

SUPPLEMENTARY INFORMATION: The Board, created by Congress in 1996 to take over many of the functions previously performed by the Interstate Commerce Commission, exercises broad authority over transportation by rail carriers, including regulation of railroad rates and service (49 U.S.C. 10701-10747, 11101-11124), as well as the construction, acquisition, operation, and abandonment of rail lines (49 U.S.C. 10901-10907) and railroad line sales, consolidations, mergers, and common control arrangements (49 U.S.C. 10902, 11323-11327).

In 2007, the Board established RETAC as a Federal advisory committee consisting of a balanced cross-section of energy and rail industry stakeholders to provide independent, candid policy advice to the Board and to foster open, effective communication among the affected interests on issues such as rail performance, capacity constraints, infrastructure planning and development, and effective coordination among suppliers, carriers, and users of energy resources. RETAC operates subject to the Federal Advisory Committee Act.

RETAC's membership is balanced and representative of interested and affected parties, consisting of not less than: 5 representatives from the Class I railroads, 3 representatives from Class II and III railroads, 3 representatives from coal producers, 5 representatives from electric utilities (including at least 1 rural electric cooperative and 1 state- or municipally-owned utility), 4 representatives from biofuel refiners, processors, or distributors, or biofuel feedstock growers or providers, and 2 representatives from private car owners, car lessors, or car manufacturers. RETAC may also include up to 3 members with relevant experience but not necessarily affiliated with one of the aforementioned industries or sectors. Members are selected by the Chairman of the Board with the concurrence of a majority of the Board. The Chairman of the Board may invite representatives from the U.S. Departments of Agriculture, Energy and Transportation and the Federal Energy Regulatory Commission to serve on RETAC in advisory capacities as ex officio (non-voting) members, and the 3 members of the Board serve as ex officio members of the Committee as well.

RETAC meets at least twice per year. Meetings are generally held at the Board's headquarters in Washington, DC, but may be held in other locations. Members of RETAC serve without compensation and without reimbursement of travel expenses unless reimbursement of such expenses is authorized in advance by the Board's Managing Director. RETAC members appointed or reappointed after June 18, 2010, are prohibited from serving as federally registered lobbyists during their RETAC term.

One vacancy currently exists on RETAC for a representative of a state- or municipally-owned electric utility to complete the remainder of a 3-year term ending September 30, 2012. (Under the RETAC Charter, once appointed, RETAC members may be reappointed by the Chairman of the Board.) Suggestions for a representative to fill this vacancy should be submitted in letter form and should include: (1) The name of the candidate, (2) the interest the candidate will represent, (3) a summary of the candidate's experience and qualifications for the position, (4) a representation that the candidate is willing to serve as a member of RETAC, and (5) a representation that the candidate is not a federally registered lobbyist. Suggestions for candidates for membership on RETAC should be filed with the Board by December 21, 2011. Please note that submissions will be available to the public at the Board's offices and posted on the Board's Web site under Docket No. EP 670 (Sub-No. 2).

This action will not significantly affect either the quality of the human environment or the conservation of energy resources.

Authority: 49 U.S.C. 721, 49 U.S.C. 11101; 49 U.S.C. 11121.

Decided: November 21, 2011.
By the Board.
Joseph H. Dettmar,
Acting Director, Office of Proceedings.
Raina S. White,
Clearance Clerk.

[FR Doc. 2011-30347 Filed 11-23-11; 8:45 am]

BILLING CODE 4915-07-P